DEPARTMENT OF HEALTH AND HUMAN SERVICES

National Institutes of Health

Center for Scientific Review; Amended Notice of Meeting

Notice is hereby given of a change in the meeting of the Center for Scientific Review Special Emphasis Panel, June 14, 2007, 8 a.m. to June 15, 2007, 5 p.m., The Watergate Hotel, 2650 Virginia Avenue, NW., Washington, DC 20037, which was published in the Federal Register on May 4, 2007, 72 FR 25325.

The meeting will be held June 14, 2007, 8 a.m. to 5 p.m. The meeting location remains the same. The meeting is closed to the public.

Dated: May 16, 2007.
Jennifer Spaeth,
Director, Office of Federal Advisory Committee Policy.

[FR Doc. 07-2538 Filed 5-21-07; 8:45 am]

BILLING CODE 4140-01-M